DEPARTMENT OF THE INTERIOR

Office of the Secretary

[DOI-2019-0003; 19XD0120AF DT2300000 DST000000 54AB00.241A]

Privacy Act of 1974; System of Records

AGENCY: Office of the Special Trustee for American Indians, Interior.

ACTION: Notice of a modified system of records.

SUMMARY: Pursuant to the provisions of the Privacy Act of 1974, as amended, the Department of the Interior is issuing a public notice of its intent to modify the Office of the Special Trustee for American Indians Privacy Act system of records titled, “Individual Indian Money (IIM) Trust Funds—Interior, OS-02”. This system helps the Office of the Special Trustee for American Indians meet fiduciary responsibilities set forth in the American Indian Trust Fund Management Reform Act of 1994. The Department of the Interior is updating this system to (1) update the system location, (2) propose new and modified routine uses, (3) update the categories of records and categories of individuals covered by the system, and (4) provide general and administrative updates to remaining sections to accurately reflect the management and scope of the system. This modified system will be included in the Department of the Interior's inventory of record systems.

DATES: This modified system will be effective upon publication. New or modified routine uses will be effective September 23, 2019. Submit comments on or before September 23, 2019.

ADDRESSES: You may send comments, identified by docket number [DOI-2019-0003], by any of the following methods:

• Federal eRulemaking Portal: http://www.regulations.gov. Follow the instructions for sending comments.

• Email: DOI_Privacy@ios.doi.gov. Include docket number [DOI-2019-0003] in the subject line of the message.

• Mail: Teri Barnett, Departmental Privacy Officer, U.S. Department of the Interior, 1849 C Street NW, Room 7112, Washington, DC 20240.

• Hand Delivery/Courier: Teri Barnett, Departmental Privacy Officer, U.S. Department of the Interior, 1849 C Street NW, Room 7112, Washington, DC 20240.

Instructions: All submissions received must include the agency name and docket number. All comments received will be posted without change to http://www.regulations.gov, including any personal information provided.

Docket: For access to the docket to read background documents or comments received, go to http://www.regulations.gov.

FOR FURTHER INFORMATION CONTACT: Teri Barnett, Departmental Privacy Officer, U.S. Department of the Interior, 1849 C Street NW, Room 7112, Washington, DC 20240, email at DOI_Privacy@ios.doi.gov or by telephone at (202) 208-1605.

SUPPLEMENTARY INFORMATION:

I. Background

The Department of the Interior (DOI), Office of the Special Trustee for American Indians (OST) maintains the Individual Indian Money (IIM) Trust Fund—Interior, OS-02 system of records. This system assists OST in meeting the fiduciary responsibilities set forth in the American Indian Trust Fund Management Reform Act of 1994, including management of the receipt, investment, disbursement and administration of money held in trust for individual Indians and Alaskan Natives (or their heirs), and Indian Tribes. The OST provides trust services and information for Indian trust funds program management and oversees the implementation of trust reforms, trust accounting and coordination of trust policies intra-bureau-wide related to the management of Indian trust funds and assets. The system also provides litigation support by analyzing and reconciling the historical collection, distribution, and disbursement of income from IIM accounts, Indian trust land, and other revenue sources. The system also supports DOI land consolidation activities of fractionated lands and annual tribal trust evaluations for Tribes who compact trust programs, functions, services, and activities under Public Law 93-638 Self-Governance Compacts on behalf of the Secretary of the Interior.

OST is publishing this revised notice to (1) update the system location, (2) propose new and modified routine uses, (3) update the categories of records and categories of individuals covered by the system, and (4) provide general and administrative updates to remaining sections to accurately reflect the management and scope of the system in accordance with the Office of Management and Budget (OMB) Circular A-108, “Federal Agency Responsibilities for Review, Reporting, and Publication under the Privacy Act.”

OST is proposing to modify existing routine uses to provide clarity and transparency, and reflect updates consistent with standard DOI routine uses. Routine uses A, B, G and L have been modified to provide additional clarification on external organizations and circumstances where disclosures are proper and necessary to facilitate the management of the IIM system. Routine use A was modified to further clarify disclosures to the Department of Justice or other Federal agencies when necessary in relation to litigation or judicial proceedings. Routine use B was modified to clarify disclosures to a congressional office to respond to or resolve an individual's request made to that office. Routine use G facilitates sharing with other government and tribal organizations pursuant to a court order or discovery request. Modified routine use L was revised to separate the sharing of information with the Department of the Treasury to recover debts owed to the United States into new proposed routine use W to distinguish the purpose of the sharing of information and promote greater transparency. Modified routine use I and new routine use J allow DOI to share information with appropriate Federal agencies or entities when reasonably necessary to respond to a breach of personally identifiable information and to prevent, minimize, or remedy the risk of harm to individuals or the Federal Government, or assist an agency in locating individuals affected by a breach in accordance with OMB Memorandum M-17-12, “Preparing for and Responding to a Breach of Personally Identifiable Information.”

OST is proposing new routine uses to facilitate the sharing of information with agencies and organizations to ensure the efficient and effective management of the IIM system, or to carry out a statutory responsibility of the DOI or Federal Government. Proposed routine use V facilitates sharing of information with the Executive Office of the President to resolve issues concerning an individual's records when requested by the subject individual. Proposed routine use W allows sharing of information with the Department of the Treasury to recover debts owed to the United States.

II. Privacy Act

The Privacy Act of 1974, 5 U.S.C. 552a, embodies fair information practice principles in a statutory framework governing the means by which Federal agencies collect, maintain, use, and disseminate individuals' records. The Privacy Act applies to records about individuals that are maintained in a “system of records.” A “system of records” is a group of any records under the control of an agency for which information about an individual is retrieved by the name or by some identifying number, symbol, or other identifying particular assigned to the individual. The Privacy Act defines an individual as a United States citizen or lawful permanent resident. Individuals may request access to their own records that are maintained in a system of records in the possession or under the control of the DOI by complying with DOI Privacy Act regulations at 43 CFR part 2, subpart K, and following the procedures outlined in the Records Access, Contesting Record, and Notification Procedures sections of this notice.

The Privacy Act requires each agency to publish in the Federal Register a description denoting the existence and character of each system of records that the agency maintains and the routine uses of each system. The revised Individual Indian Money Trust Funds system of records notice is published in its entirety below. In accordance with 5 U.S.C. 552a(r), DOI has provided a report of this system of records to the Office of Management and Budget and to Congress.

III. Public Participation

You should be aware your entire comment including your personal identifying information, such as your address, phone number, email address, or any other personal identifying information in your comment, may be made publicly available at any time. While you may request that we withhold your personal identifying information from public review, we cannot guarantee we will be able to do so.

SYSTEM NAME AND NUMBER:

INTERIOR/OS-02, Individual Indian Money (IIM) Trust Funds.

SECURITY CLASSIFICATION:

Unclassified.

SYSTEM LOCATION:

The system of records is maintained by the Office of the Special Trustee for American Indians, U.S. Department of the Interior, at the following locations:

(1) Office of the Special Trustee for American Indians, 4400 Masthead Street NE, Albuquerque, New Mexico 87109;

(2) American Indian Records Repository, 17501 West 98th Street, Lenexa, Kansas 66219;

(3) Bureau of Indian Affairs, Southwest Region, Albuquerque Data Center, 1001 Indian School Road, Albuquerque, New Mexico 87109;

(4) U.S. Department of the Interior, Office of the Special Trustee for American Indians, 1849 C Street NW, Washington, DC 20240;

(5) Other program offices that are located at regional and field offices and at the offices of Indian Tribes that administer trust programs under Indian Self-Determination or Self- Governance contracts or compacts; and

(6) Offices of contractors under contract to OST.

SYSTEM MANAGER(S):

Financial Systems Administrator, Office of the Special Trustee for American Indians, U.S. Department of the Interior, 4400 Masthead Street NE, Albuquerque, New Mexico 87109.

AUTHORITY FOR MAINTENANCE OF THE SYSTEM:

American Indian Trust Fund Management Reform Act of 1994, Public Law 103-412, 108 Stat. 4239; 25 U.S.C. 116, 117a, 117b, 117c, 118, 119, 120, 121, 151, 159, 161a, 162a; 4011, 4043(b)(2)(B), Public Law 93-638 Self-Governance Compacts; 25 U.S.C. 5363(d)(1); 25 CFR 1000.350; 25 CFR 1000.355; 25 CFR 1000.365.

PURPOSE(S) OF THE SYSTEM:

The purpose of the system is to manage the receipt, investment, distribution, and disbursement of IIM account and Tribal trust fund income; comply with the American Indian Trust Fund Management Reform Act of 1994; and improve accountability and management of Indian funds held in trust by the Government.

CATEGORIES OF INDIVIDUALS COVERED BY THE SYSTEM:

Individuals covered by the system include individual Indians and Alaskan Natives (or their heirs); Tribes that compact trust programs, functions, services, and activities under Public Law 93-638 Self-Governance Compacts; current and former Federal employees and contractors who receive IIM account information or are IIM account holders, owners of land held in trust or restricted status by the Federal Government, officials acting in their official capacity to administer program activities, individuals owning purchasable fractional interests in land or who may be interested in participating in the Land Buy-Back Program; members of the public who make inquiries about the Cobell Settlement payments; acquaintances of IIM account holders, depositors into and claimants against IIM accounts; individuals who lease, contract, or who are permit holders on Indian lands; and individuals with whom OST conducts business.

The system also contains information about private organizations that provide contact information about individual Indian account holders whose whereabouts are unknown to OST, corporations and other business entities, which are not subject to the Privacy Act. However, information about individuals acting on behalf of corporations and other business entities may reflect personal information that may be covered by this notice.

CATEGORIES OF RECORDS IN THE SYSTEM:

This system maintains IIM account and Tribal trust fund account records; documents related to financial and investment activity; custodianship of investments for IIM accounts and Tribal trust fund accounts; account reconciliation information, disbursements, bonds, transfers, and historical statements of account; transaction data regarding receipts, and contact information for individuals who may know the whereabouts of unknown locations of beneficiaries; land ownership and interests in restricted or fractioned lands; official land buy-back correspondence, appraisals, maps, purchase offers, and other documents related to land consolidation efforts and program activities; and, Tribal trust evaluation data and documentation. The records from Tribes and the Bureau of Indian Affairs (BIA) are used to evaluate compliance with Federal regulations, statutes, and policies in the management of Indian trust programs, and identify names of Tribes or trust beneficiaries associated with the ownership of trust assets, leases, court orders, or other trust related transactions and documentation. The data regarding IIM accounts that may be obtained from the OST Accounting Reconciliation Tool (ART) system, Trust Funds Accounting System (TFAS) and the BIA Trust Asset and Accounting Management system (TAAMS). Records in the system may include IIM account numbers, bank routing and account numbers, names, aliases or other names used, mother's maiden name, child or dependent information, guardianship information, gender, date of birth, age, date of death, emergency contact information, marital status, spouse information, medical information, disability information, mailing, home, and email addresses, telephone and cell phone numbers, driver's license, Social Security numbers (SSNs), truncated SSNs, and taxpayer identification numbers, Tribal Enrollment Number, Tribal affiliation (membership), other Tribal identification number, blood quantum, and Tribal trust account codes.

RECORD SOURCE CATEGORIES:

Records in the system are obtained from individual Indians and Alaskan Natives (or their heirs), Indian Tribes, current and former Federal employees and contractors who receive IIM account information or are IIM account holders. Records and financial data in this system are also obtained from the OST ART, TFAS, and other DOI Bureaus and Offices including BIA, Office of Natural Resources and Revenue (ONRR), Bureau of Land Management (BLM), Office of Hearings and Appeals (OHA), and the Office of the Secretary (OS). Information may also be obtained from the Department of Justice (DOJ), Department of the Treasury, and other Federal, state and local agencies, and Tribes; Courts of competent jurisdiction, including Tribal courts; and, private financial, business institutions, and entities.

This system also obtains information from members of the public, including individuals who make inquiries about Cobell Settlement payments, acquaintances of IIM account holders who may know the whereabouts of otherwise unknown locations of beneficiaries, depositors into and claimants against IIM accounts, individuals who lease, contract, or who are permit holders on Indian lands and individuals with whom OST conducts business. Information may also be received from private organizations about individual Indian account holders whose whereabouts are unknown to OST and correspondents, beneficiaries, landowners, and members of the public who participate or are interested in land consolidation or related program activity.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information maintained in this system may be disclosed to authorized entities outside DOI for purposes determined to be relevant and necessary as a routine use pursuant to 5 U.S.C. 552a(b)(3) as follows:

A. To the Department of Justice (DOJ), including Offices of the U.S. Attorneys, or other Federal agency conducting litigation or in proceedings before any court, adjudicative, or administrative body, when it is relevant or necessary to the litigation and one of the following is a party to the litigation or has an interest in such litigation:

(1) DOI or any component of DOI;

(2) Any other Federal agency appearing before the Office of Hearings and Appeals;

(3) Any DOI employee or former employee acting in his or her official capacity;

(4) Any DOI employee or former employee acting in his or her individual capacity when DOI or DOJ has agreed to represent that employee or pay for private representation of the employee; or

(5) The United States Government or any agency thereof, when DOJ determines that DOI is likely to be affected by the proceeding.

B. To a congressional office when requesting information on behalf of, and at the request of, the individual who is the subject of the record.

C. To any criminal, civil, or regulatory law enforcement authority (whether Federal, state, territorial, local, tribal or foreign) when a record, either alone or in conjunction with other information, indicates a violation or potential violation of law—criminal, civil, or regulatory in nature, and the disclosure is compatible with the purpose for which the records were compiled.

D. To an official of another Federal agency to provide information needed in the performance of official duties related to reconciling or reconstructing data files or to enable that agency to respond to an inquiry by the individual to whom the record pertains.

E. To Federal, state, territorial, local, tribal, or foreign agencies that have requested information relevant or necessary to the hiring, firing or retention of an employee or contractor, or the issuance of a security clearance, license, contract, grant or other benefit, when the disclosure is compatible with the purpose for which the records were compiled.

F. To representatives of the National Archives and Records Administration (NARA) to conduct records management inspections under the authority of 44 U.S.C. 2904 and 2906.

G. To state, territorial and local governments and tribal organizations to provide information needed in response to court order and/or discovery purposes related to litigation, when the disclosure is compatible with the purpose for which the records were compiled.

H. To an expert, consultant, grantee, or contractor (including employees of the contractor) of DOI that performs services requiring access to these records on DOI's behalf to carry out the purposes of the system.

I. To appropriate agencies, entities, and persons when:

(1) DOI suspects or has confirmed that there has been a breach of the system of records;

(2) DOI has determined that as a result of the suspected or confirmed breach there is a risk of harm to individuals, DOI (including its information systems, programs, and operations), the Federal Government, or national security; and

(3) the disclosure made to such agencies, entities, and persons is reasonably necessary to assist in connection with DOI's efforts to respond to the suspected or confirmed breach or to prevent, minimize, or remedy such harm.

J. To another Federal agency or Federal entity, when DOI determines that information from this system of records is reasonably necessary to assist the recipient agency or entity in:

(1) responding to a suspected or confirmed breach; or

(2) preventing, minimizing, or remedying the risk of harm to individuals, the recipient agency or entity (including its information systems, programs, and operations), the Federal Government, or national security, resulting from a suspected or confirmed breach.

K. To the Office of Management and Budget (OMB) during the coordination and clearance process in connection with legislative affairs as mandated by OMB Circular A-19.

L. To the Department of the Treasury, as needed, in the performance of their official duties to disburse trust funds and to issue disbursements, Explanation of Payment (EOP) reports, Statements of Performance (including Assets), IRS Form 1099s, Osage Headwright Owner's Share of Income, Deductions, etc., and BIA invoices for the use or sale of Indian trust lands and resources.

M. To agency contractors who have been engaged to assist the Government in the performance of a contract, grant, cooperative agreement, or other activity related to this system or records and who need to have access to the records in order to perform the activity.

N. To Indian Tribes entering into a contract or compacts of the trust funds management functions under the Indian Self-Determination and Education Assistance Act, as amended.

O. To any of the following entities or individuals, when the entity or individual makes a written request for information of owners of any interest in trust or restricted lands, location of the parcel, and the percentage of undivided interest owned by each individual.

(1) To other owners of interests in trust or restricted lands within the same Indian Reservation.

(2) To Tribes that exercise jurisdiction over the land where the parcel is located or any person who is eligible for membership in a Tribe.

(3) To any person that is leasing, using or consolidating, or is applying to lease, use or consolidate trust or restricted land or the interest in trust or restricted lands.

P. To Indian Tribes entering into a contract or compacts of real estate or title functions under the Indian Self-Determination and Education Assistance Act, as amended.

Q. To Indian Tribes (including employees) who

(1) operate, or are eligible to operate, land consolidation activities on behalf of DOI,

(2) agree to non-disclosure, and

(3) submit a request in writing, upon a determination by DOI that such activities shall occur on the Tribe's Reservation within six months or less and when the information relates to owners of fractionated land. Information disclosed may include, but is not limited to, the following:

(a) Contact information (telephone number, email address);

(b) Relevant personal characteristics of the owner (age, Tribal membership, living/deceased);

(c) Type of ownership, i.e., type of interest, if interest is purchasable; and

(d) Transaction status, i.e., has an offer been sent, accepted or rejected, is the owner a willing seller.

R. To the lineal descent, heir, or devisee of a deceased individual covered by the system or to any other person entitled to the deceased's trust assets.

S. To IIM account owners, their heirs, guardians, or agents.

T. To members of the public, the names of IIM account holders whose whereabouts are unknown and OST is seeking a current address.

U. To the news media and the public, with the approval of the Public Affairs Officer in consultation with counsel and the Senior Agency Official for Privacy, where there exists a legitimate public interest in the disclosure of the information, except to the extent it is determined that release of the specific information in the context of a particular case would constitute an unwarranted invasion of personal privacy.

V. To the Executive Office of the President in response to an inquiry from that office made at the request of the subject of a record or a third party on that person's behalf, or for a purpose compatible with the reason for which the records are collected or maintained.

W. To the Department of the Treasury to recover debts owed to the United States.

DISCLOSURE TO CONSUMER REPORTING AGENCIES:

Disclosure pursuant to 5 U.S.C. 552a(b)(12). Disclosures may be made from this system to consumer reporting agencies as defined in the Fair Credit Reporting Act (15 U.S.C. 1681a(f)) or the Federal Claims Act of 1966 (31 U.S.C. 3701(a)(3)).

POLICIES AND PRACTICES FOR STORAGE OF RECORDS:

Records are maintained in any medium including paper, electronic, microfilm, microfiche, imaged, and computer printout form. Original input documents are stored in standard office filing equipment and/or imaged documents on magnetic media which prepare and provide input documents and information for data processing. Paper records are maintained in file folders stored within locking file cabinets or locked areas in secured facilities with controlled access. Electronic records are stored in computers, removable drives, storage devices, electronic databases, and other electronic media under the control of OST.

POLICIES AND PRACTICES FOR RETRIEVAL OF RECORDS:

Records are retrieved by individual names; SSNs; IIM or Tribal trust funds account numbers; Tribe, Tribal enrollment or census numbers; Tribal codes, electronic ticket numbers; contact names; call numbers or incident numbers; Tax Identification Number (TIN); IIM or Tribal trust fund account number and identifiers may also be linked to an individual appraisal, parcel, or encumbrance on ownership.

POLICIES AND PRACTICES FOR RETENTION AND DISPOSAL OF RECORDS:

Records in this system are covered by the Indian Affairs Records Schedule (IARS) records series 6100 and 9000 approved on June 28, 2006 by the National Archives and Records Administration (NARA) Job No. N1-075-04-7 and Job. No. N1-075-06-8. The Indian Fiduciary Financial Trust records are cut off at the end of the fiscal year, maintained in the office two years after cut off, and then retired to the American Indian Records Repository (AIRR), Federal Records Center, Lenexa, Kansas. Record retention periods vary based on the type of record under the appropriate 6100 and 9000 records series. Subsequent legal transfer of the records to the National Archives of the United States will be in accordance with the signed Standard Form 258, Agreement to Transfer Records to the National Archives of the United States. Historical Trust Accounting records are cut off at fiscal year-end, maintained in the office of records for a maximum of 5 years after cut off, and then retired to the AIRR, Federal Records Center, Lenexa, Kansas. Subsequent legal transfer of the records to the National Archives of the United States will be as jointly agreed to between the U.S. Department of the Interior and NARA. Temporary records are maintained and disposed of in accordance with the General Records Schedule or the Departmental Records Schedule (DRS) for the appropriate record type (including data backup tapes or copies).

ADMINISTRATIVE, TECHNICAL, AND PHYSICAL SAFEGUARDS:

The records contained in this system are safeguarded in accordance with 43 CFR 2.226 and other applicable security and privacy rules and policies. During normal hours of operation, paper records are maintained in locked file cabinets in secure locations under the control of authorized personnel. Computer servers on which electronic records are stored are located in secured DOI controlled facilities with physical, technical and administrative levels of security to prevent unauthorized access to the DOI network and information assets. Access granted to authorized personnel is password-protected, and each person granted access to the system must be individually authorized to use the system. A Privacy Act Warning Notice appears on computer monitor screens when records containing information on individuals are first displayed. Data exchanged between the servers and the system is encrypted. Backup tapes are encrypted and stored in a locked and controlled room in a secure, off-site location.

Computerized records systems follow the National Institute of Standards and Technology standards as developed to comply with the Privacy Act of 1974, 5 U.S.C. 552a, Paperwork Reduction Act of 1995, 44 U.S.C. 3501-3521; Federal Information Security Modernization Act of 2014, 44 U.S.C. 3551-3558; and the Federal Information Processing Standards 199; Standards for Security Categorization of Federal Information and Information Systems. Security controls include user identification, passwords, database permissions, encryption, firewalls, audit logs, and network system security monitoring, and software controls.

Access to records in the system is limited to authorized personnel who have a need to know to access the records in the performance of their official duties. Electronic data is protected through identification, passwords, database permission and software controls. Such security measures establish different access levels for different types of users associated with pre-defined groups and/or bureaus. Each user's access is restricted to only the functions and data necessary to perform that person's job responsibilities. Access can be restricted to specific functions (i.e., create, update, delete, view, assign permissions) and is restricted utilizing role-based access. Authorized users are required to follow established internal security protocols and must complete all security, privacy, and records management training and sign the DOI Rules of Behavior. Contract employees with access to the system are monitored by the Contracting Officer's Representative and agency Security Manager. A Privacy Impact Assessment was conducted to ensure that Privacy Act safeguard requirements are met and appropriate privacy controls and safeguards are in place.

RECORD ACCESS PROCEDURES:

An individual requesting records on himself or herself should send a signed, written request to the System Manager identified above. The request should describe the records sought as specifically as possible. The request envelope and letter should both be clearly marked “PRIVACY ACT REQUEST FOR ACCESS.” A request for access must meet the requirements of 43 CFR 2.238. Provide the following information with your request:

(a) Proof of your identity;

(b) List of all of the names by which you have been known, such as maiden name or alias(es);

(c) Social Security number;

(d) Mailing address;

(e) Tribe, IIM account number, Tribal enrollment, or census number;

(f) BIA home agency;

(g) Time period(s) during which the records may have been created or maintained, to the extent known by you; and

(h) Description or identification of the records you are requesting (including whether you are asking for a copy of all of your records or only a specific part of them) and the maximum amount of money that you are willing to pay for duplication.

CONTESTING RECORD PROCEDURES:

An individual requesting corrections or the removal of material from his or her records should send a signed, written request to the System Manager identified above. A request for corrections or removal must meet the requirements of 43 CFR 2.246. Provide the following information with your request:

(a) Proof of your identity;

(b) List of all of the names by which you have been known, such as maiden name or alias(es);

(c) Social Security number;

(d) Mailing address;

(e) Tribe, IIM account number, Tribal enrollment, or census number;

(f) BIA home agency;

(g) Time period(s) during which the records may have been created or maintained, to the extent known by you;

(h) Specific description or identification of the record(s) you are contesting and the reason(s) why you believe the record(s) are not accurate, relevant, timely, or complete; and

(i) Copy of documents or evidence in support of (h) above.

NOTIFICATION PROCEDURES:

An individual requesting notification of the existence of records on himself or herself should send a signed, written inquiry to the System Manager identified above. The request envelope and letter should both be clearly marked “PRIVACY ACT INQUIRY.” A request for notification must meet the requirements of 43 CFR 2.235. Provide the following information with your request:

(a) Proof of your identity;

(b) List of all of the names by which you have been known, such as maiden name or alias(es);

(c) Social Security number;

(d) Mailing address;

(e) Tribe, IIM account number, Tribal enrollment, or census number;

(f) BIA home agency; and

(g) Time period(s) during which the records may have been created or maintained, to the extent known by you.

EXEMPTIONS PROMULGATED FOR THE SYSTEM:

None.

HISTORY:

80 FR 1043 (January 8, 2015).

Teri Barnett,
Departmental Privacy Officer, Department of the Interior.

[FR Doc. 2019-18184 Filed 8-22-19; 8:45 am]

BILLING CODE 4334-63-P